SMALL BUSINESS ADMINISTRATION

Public Federal Regulatory Enforcement Fairness Hearing Region IX Regulatory Fairness Board

Pursuant to the Federal Advisory Committee Act, 5 U.S.C. Appendix 2, notice is hereby given that the U.S. Small Business Administration (SBA) Region IX Regulatory Fairness Board and the SBA Office of the National Ombudsman will hold a National Regulatory Fairness Hearing on Monday, April 26, 2010, at 1:30 p.m. The forum is open to the public and will take place at the Health Services Complex-Rosecrans, Harbor Conference Room, 3851 Rosecrans Street, San Diego, CA 92110-3115. The purpose of the meeting is for Business Organizations, Trade Associations, Chambers of Commerce and related organizations serving small business concerns to report experiences regarding unfair or excessive Federal regulatory enforcement issues affecting their members.

Anyone wishing to attend or make a presentation must contact Cynthia Harris, in writing or by fax, in order to be placed on the agenda. Cynthia Harris, Business Development Specialist, SBA, San Diego District Office, 550 West C Street, Suite 550, San Diego, CA, phone (619) 727-4884 and fax (202) 481-0895, e-mail: Cynthia.harris@sba.gov.

For more information, see our Web site at http://www.sba.gov/ombudsman.

Meaghan Burdick,
Deputy Chief of Staff.

[FR Doc. 2010-8147 Filed 4-8-10; 8:45 am]

BILLING CODE P